DEPARTMENT OF THE INTERIOR

Office of the Secretary

Privacy Act; System of Records

ACTION: Proposed addition of a new system of records.

SUMMARY: The Department of the Interior (DOI) is issuing public notice of its intent to create a Privacy Act (PA) system of records in its inventory of records systems subject to the Privacy Act of 1974. This action is necessary to meet the requirements of the Privacy Act to publish in the Federal Register notice of the existence and character of records systems maintained by the agency. The new system of records is captioned, “Interior/DOI-16,” and is titled, “DOI LEARN.”

5 U.S.C. 552a(e)(11) requires that the public be provided a 30-day period in which to comment on the agency's intended use of the information in the system of records. The Office of Management and Budget, in its Circular A-130, requires an additional 10-day period in which to make comments. Any persons interested in commenting on this proposed amendment may do so by submitting comments in writing to the Departmental Privacy Act Officer, U.S. Department of the Interior, Office of the Chief Information Officer, Mail Stop (MS)-5312-Main Interior Building (MIB), 1849 C Street, NW., Washington, DC 20240, (202) 219-0868 or by e-mail to Marilyn_Legnini@ios.doi.gov. Comments received within 40 days of publication in the Federal Register will be considered. The system will be effective as proposed at the end of the comment period unless comments are received which would require a contrary determination. The Department will publish a revised notice if changes are made based upon a review of comments received.

DATES: Submit comments by November 4, 2005. Records system will become effective on November 4, 2005 unless comments warrant a revision.

FOR FURTHER INFORMATION CONTACT: Marta Kelly, LMS Project Manager, Department of the Interior, phone (202) 208-3212 e-mail: Marta_Kelly@mms.gov.

SUPPLEMENTARY INFORMATION: This notice announces a new Privacy Act system of records being implemented in conjunction with the Office of Personnel Management. The various bureaus, offices and programs within the Department of the Interior (DOI) offer unique training and education opportunities in the environmental, land management and conservation areas of study. These training services are provided to individuals and groups from the Department; other Federal agencies; State agencies; not-for-profit organizations; institutes of higher learning; international organizations or agencies and private citizens.

DOI LEARN is an electronic system that will allow all prospective students to view training offered by the various Interior bureaus and offices. Interior employees will be able to access the system, apply for authorized instructor-led classes, create learning plans, perform training gap analyses, view and launch computer or web-based training (CBT/WBT), and apply for and track approval of third-party vendor training offered outside DOI LEARN by use of an electronic application and registration module.

The Department of the Interior must collect certain personal information for all students in order to validate training records necessary for certification or for granting of college credit and to meet periodic reporting requirements mandated by the Office of the Personnel Management and Budget reports which typically include training expenses and student training days. Other information may be collected to comply with the American with Disabilities Act requirements to address facilities accommodations. Prospective students who are not Interior employees will submit their personal and billing information only when they decide upon a specific training class.

Although the Department will collect and use the information that will reside in DOI LEARN, the physical database will be managed by the Office of Personnel Management (OPM) in conjunction with the E-Training initiative of the Presidents Management Agenda for E-Government.

Dated: September 30, 2005.
Kathleen Wheeler,
Deputy Chief Human Capital Officer, Office of the Secretary.

INTERIOR/DOI-16

System name:

DOI LEARN (Department-wide Learning Management System).

Security classification:

None.

System location:

The system of records is located at a digital safe in a facility in Reston, Virginia, managed under contract to the Office of Personnel Management (OPM).

Categories of individuals covered by the system:

All employees, contractors, volunteers and appointees of the Department of the Interior (DOI), who receive training related to their official duties, whether or not sponsored by DOI bureaus and offices. All non-DOI individuals who participate in DOI-sponsored training or attend DOI-sponsored meetings. Non-DOI individuals are defined as Federal employees from other agencies; personnel from states, private agencies, not-for-profit organizations, universities; and private citizens.

Categories of records in the system:

Interior employee information will be primarily imported from the Department of the Interior Federal Personnel and Payroll System (FPPS) on a bi-monthly basis. Occasional specific data entry for an individual Interior employee may be required if the employee is requesting training registration and the scheduled routine import has not yet added his/her information to the system. Specific data fields include: name, social security number, address information, gender, date of birth, organization code, position title, GS series, pay plan, grade level, supervisory status, type of appointment, education level, duty station code, department, bureau, date of Federal service, date of last promotion, occupational category, race, national origin, and adjusted basic pay.

Historical training records of current employees contained in the DOI LEARN system will be derived initially from existing systems where training data is currently being housed. Fields contained in this subset of data include, but are not limited to, necessary course information (e.g., course title and class name) and class status information (e.g., begin/end dates, completion status, certification requirements met, test scores, and acquired skills).

The personal information maintained on non-DOI individuals include the participants' name, social security number, agency address, agency affiliation, phone/fax numbers, e-mail address, supervisor's name and phone number, job series/grade/title, billing information (e.g., responsible agency, tax ID number, DUNS number, purchase order numbers, agency location codes and credit card information); necessary course information (e.g., course title, class name, objectives, description, and who should attend); class status information (begin/end dates, responsible class instructor, completion status, certification requirements met); and student transcripts (course(s) completed/not completed, test scores, acquired skills).

Authority for maintenance of the system:

5 U.S.C. 4101, et seq. (Government Organization & Employee Training); 5 U.S.C. 1302, 2951, 4118, 4308, 4506, 3101, 43 U.S.C. 1457, Title VI of the Civil Rights Act of 1964 as amended (42 U.S.C. 2000d) Executive Order 11348 (Providing for Further Training of Government Employees); as amended by Executive Order 12107 (Relating to Civil Service Commission and Labor Management in Federal Service); Code of Federal Regulations; 5 CFR 410, Subpart C (Establishing and Implementing Training Programs); Americans with Disabilities Act (42 U.S.C. 112101); and the E-government Act of 2002 (44 U.S.C. 3501, et seq.).

Routine uses of records maintained in the system, including categories of users and the purpose of such uses:

The primary uses of the records will be:

(1) To validate training records for certification purposes;

(2) To meet statistical reporting requirements of the Office of Personnel Management, Department of the Interior Office for Equal Employment Opportunity, and individual bureau and sub-agency management;

(3) To generate class rosters and transcript listings for use by course administrators;

(4) To generate requested student or personnel transcripts;

(5) To generate budget estimates related to training requirements;

(6) To ensure prompt and correct payment for services rendered;

(7) To report on mandatory training compliance;

(8) To determine enrollment numbers; and

(9) To review the exact dates of registration in order of acceptance.

Disclosures will be made:

(1) To release statistical information and training reports to other organizations who are involved with the training;

(2) To disclose information to other Government training facilities (Federal, State, and local) and to non-Government training facilities (private vendors of training courses or programs, private schools, etc.) for training purposes;

(3) To provide transcript information to education institutions upon the student's request in order to facilitate transfer of credit to that institution, and to provide college and university officials with information about their students working in the Student Career Experiment Program, Volunteer Service, or other similar programs necessary to a student's obtaining credit for the experience;

(4) To disclose to a Federal agency in the Executive, Legislative, or Judicial branch of government, in response to its request, information in connection with the hiring of an employee, the issuance of a security clearance, the conducting of a security or suitability investigation of an individual, the letting of a contract, the issuance of a license, grant, or other benefits by the requesting agency, or the lawful statutory, administrative, or investigative purpose of the agency to the extent that the information is relevant and necessary to the requesting agency's decision.

(5) To an expert, consultant, or contractor (including employees of the contractor) of DOI that performs, on DOI's behalf, services requiring access to these records;

(6) To share logistical or attendance information with partner agencies (Government or non-Government) who, based on cooperative training agreements, have a need to know;

(7) (a) To any of the following entities or individuals, when the circumstances set forth in (b) are met:

i. The Department of Justice (DOJ);

ii. A court, adjudicative or other administrative body;

iii. The fiscally sponsoring organization or agency of the student;

iv. A party in litigation before a court or adjudicative or administrative body; or

v. Any DOI employee acting in his or her individual capacity if DOI or DOJ has agreed to represent that employee or pay for private representation of the employee;

(b) When

(i) One of the following is a party to the proceeding or has an interest in the proceeding:

(A) DOI or any component of DOI;

(B) Any DOI employee acting in his or her official capacity;

(C) Any DOI employee acting in his or her individual capacity if DOI or DOJ has agreed to represent that employee or pay for private representation of the employee;

(D) The United States, when DOJ determines that DOI is likely to be affected by the proceeding; and

(ii) DOI deems the disclosure to be:

(A) Relevant and necessary to the proceeding; and

(B) Compatible with the purposes for which the records were compiled.

(iii) The data fields disclosed are limited in scope and will NOT include:

(A) Date of Birth;

(B) Social Security Number; and

(C) Race, national origin data

(8) To a congressional office in response to a written inquiry an individual covered by the system has made to the congressional office about him or herself;

(9) To an official of another Federal, State or local government or Tribal organization to provide information needed in the performance of official duties related to reconciling or reconstructing data files, in support of the functions for which the records were collected and maintained; and

(10) To representatives of the National Archives and Records Administration to conduct records management inspections under the authority of 44 U.S.C. 2903 and 2904.

Disclosure to consumer reporting agencies:

Pursuant to 5 U.S.C. 552a (b), records can be disclosed to consumer reporting agencies as they are defined in the Fair Credit Reporting Act (15 U.S.C. 1681a (f)) or the Federal Claims Collection Act of 1966 (31 U.S.C. 3701(a) (3)).

Policies and practices for storing, retrieving, accessing, retaining, and disposing of records in the system:

Storage:

Records are stored in electronic media on hard disks, magnetic tapes, compact disks and paper media.

Retrievability:

Information from this system is retrieved by either unique identifying fields (e.g., student name or social security number) or by general category (e.g., course code, training location, class start date, registration date, affiliation, mandatory training compliance and payment status).

Safeguards:

DOI LEARN is maintained with controls meeting safeguard requirements identified in Departmental Privacy Act Regulations (43 CFR 2.51) for manual and automated records. Access to records in the system is limited to authorized personnel whose official duties require such access. Paper records are maintained in locked file cabinets and/or in secured rooms. Electronic records are maintained in conformity with Office of Management and Budget and Departmental guidelines reflecting the implementation of the Federal Information Security Management Act. Electronic data will be protected through user identification, passwords, database permissions and software controls. These security measures will establish different degrees of access for different types of users. A Privacy Impact Assessment for the hosting facility was conducted by the OPM.

Retention and disposal:

Paper records serving as input documents to the DOI LEARN system will be maintained in accordance with the General Records Schedule (GRS-1, item 29), which prescribes that they be destroyed when 5 years old, or when superseded or obsolete, whichever is sooner, unless covered by other applicable records schedules. Electronic records maintained in the DOI LEARN system will be maintained for 65 years after separation of the individual receiving training from affiliation with the Department, in accordance with item 3150 of a new Office of the Secretary (OS) records schedule which is being drafted to cover the system. Paper and electronic records generated by the DOI LEARN system will also be maintained in accordance with item 3150 of the OS records schedule, unless covered by other applicable records schedules.

System manager(s) and address:

(1) The system manager of the data contained within the DOI LEARN system is the Chief, Office of Human Resources, Department of the Interior, Main Interior Building, 1849 C Street, NW., Washington, DC 20240. Communications to the system manager should be addressed to the attention of the LMS Project Lead; and (2) the system manager for the physical location and the hardware housing the data is the Director, E-Training Initiative, Office of Personnel Management, 1900 E Street, NW., Room 3326, Washington, DC 20415.

Notification procedure:

An individual requesting notification of the existence of records on himself or herself should address his/her request to the system manager whose address is provided in (1) from the “System Manager” section above. The request must be in writing, signed by the requester, and include the requester's full name and address, and social security number. (See 43 CFR 2.60.)

Records access procedures:

An individual requesting access to records maintained on him or herself should address his/her request to the system manager whose address is provided in (1) from the “System Manager” section above. The request must be in writing, signed by the requester, and include the requester's full name and address, and social security number. The request envelope and letter should be clearly marked “PRIVACY ACT REQUEST FOR ACCESS.” (See 43 CFR 2.63.)

Contesting record procedures:

An individual requesting amendment of a record maintained on him or herself should address his/her request to the system manager whose address is provided in (1) from the “System Manager” section above. The individual requesting the amendment must provide their full name and social security number. The request must be in writing and signed by the requester. (See 43 CFR 2.71.)

Record source categories:

Information on Interior employees is provided from the existing Departmental Federal Personnel and Payroll System (FPPS) or directly from employees in communication with data entry personnel when the scheduled routine import has not yet added the employee information to the system. Information from non-DOI employees and other individuals registering for training through DOI LEARN is provided directly by the individuals in question using paper and electronic forms.

Exemptions claimed for the System:

None.

[FR Doc. 05-19919 Filed 10-4-05; 8:45 am]

BILLING CODE 4310-RK-P